DEPARTMENT OF THE INTERIOR

Office of the Secretary

Tribal Consultation Sessions—Department of the Interior Information Technology Infrastructure Consolidation and Reorganization

AGENCY: Office of the Assistant Secretary for Policy, Management and Budget, Interior.

ACTION: Notice.

SUMMARY: The Office of the Assistant Secretary for Policy, Management and Budget is hosting upcoming tribal consultation sessions. The purpose of the sessions is to obtain tribal input on the 2012 Information Technology transformation realignment proposal as well as on how Information Technology transformation should be implemented in the coming years.

DATES: See the SUPPLEMENTARY INFORMATION section of this notice for dates of the tribal consultation sessions. We will consider all comments received by close of business on June 22, 2012.

ADDRESSES: See the SUPPLEMENTARY INFORMATION section of this notice for locations of the tribal consultation sessions. Submit comments by email to: ITT_consultation@ios.doi.gov or by U.S. mail to: IT Transformation Comments, Office of the Chief Information Officer, U.S. Department of the Interior, Mail Stop 7454, MIB, Washington, DC 20240.

FOR FURTHER INFORMATION CONTACT: Andrew Jackson, Deputy Assistant Secretary for Technology, Information and Business Services, (202) 208-7966.

SUPPLEMENTARY INFORMATION: The Assistant Secretary for Policy, Management and Budget will be hosting the following tribal consultation sessions and invites tribal leaders to participate:

Consultation Schedule
Date | Location and time
June 13, 2012 | 8:00 am-noon, Office of the Special Trustee, 4400 Masthead St. NE., Room 145, Albuquerque, NM 87109.
Additional sessions to be announced |

The agenda topics for each session will be:

Overview of IT Transformation Reorganization and Consolidation Proposal

IT Transformation and Indian Preference Positions

IT Transformation and Native-owned business contracting strategy

IT Transformation Customer Council and Ensuring Service Delivery

A brief description of each of the topics is provided below. Additional information is posted at: http://www.doi.gov/ocio/it-transformation.cfm.

Overview of IT Transformation Reorganization and Consolidation Proposal: The Assistant Secretary for Policy, Management and Budget is seeking tribal input on the current proposal to transfer IT infrastructure personnel, assets, and contracts from bureaus and offices to a newly established IT Shared Service Center in the Office of the Chief Information Officer (OCIO).

IT Transformation and Indian Preference Positions: Although analysis is still underway to determine the final number of impacted positions, approximately 125 Indian Preference positions would be transferred from the Assistant Secretary—Indian Affairs, Bureau of Indian Affairs, Bureau of Indian Education, and Office of Special Trustee to the OCIO. It is DOI's intention to maintain all of these positions as Indian Preference in the IT Shared Service Center. The Assistant Secretary for Policy, Management and Budget is seeking tribal input on the proposed approach to transfer Indian Preference positions into the IT Shared Service Center.

IT Transformation and Native-owned business contracting strategy: The Department of the Interior is committed to ensuring that Native-owned businesses will be engaged in the implementation of IT transformation. The Assistant Secretary for Policy, Management and Budget seeks tribal input on the IT transformation contracting strategy as it relates to Native-owned businesses.

IT Transformation Customer Council and Ensuring Service Delivery: To ensure that bureau and office IT infrastructure needs are met to ensure mission continuity, a Customer Council will be established. The Assistant Secretary for Policy, Management and Budget seeks tribal input on how the Customer Council is established and operated to ensure responsiveness to tribes' needs.

Dated: May 11, 2012.
Rhea Suh,
Assistant Secretary for Policy, Management and Budget.

[FR Doc. 2012-11863 Filed 5-14-12; 8:45 am]

BILLING CODE 4310-RH-P